DEPARTMENT OF VETERANS AFFAIRS

Advisory Committee on Tribal and Indian Affairs; Establishment

As required by Section 9(a)(2) of the Federal Advisory Committee Act, the Department of Veterans Affairs hereby gives notice of the establishment of the Advisory Committee on Tribal and Indian Affairs. The Advisory Committee on Tribal and Indian Affairs (Committee) is a statutory committee established as required by the Johnny Isakson and David P. Roe, M.D. Veterans Health Care and Benefits Improvement Act of 2020 (Pub. L. 116-315) and 38 U.S.C. 547. The Committee operates in accordance with provisions of the Federal Advisory Committee Act, as amended, 5 U.S.C. App. 2.

The Committee provides advice and guidance to the Secretary of Veterans Affairs on all matters relating to Indian tribes, tribal organizations, Native Hawaiian organizations and Native American Veterans.

The Committee shall be comprised of 15 voting Members selected by the Secretary from among individuals nominated as specified under the subsection below and shall be designated as Special Government Employees:

A. Appointment Authority:

i. At least one member should come from each of the 12 service areas identified by Indian Health Service and said member must be nominated by Indian tribes or tribal organization from that service area.

ii. At least one member of the Committee represents the Native Hawaiian Veteran community nominated by a Native Hawaiian Organization.

iii. At least one member of the Committee represents urban Indian organizations nominated by a national urban Indian organization.

iv. Not fewer than half of the members are Veterans, unless the Secretary determines that an insufficient number of qualified Veterans were nominated.

v. No member of the Committee may be an employee of the Federal Government.

B. Terms/Vacancies: A member of the Committee shall be appointed for a term of two years. If a vacancy occurs, it shall be filled in the same manner as the original appointment within 180 days. Additionally, a member may be reappointed for one additional term at the Secretary's discretion.

Any member of the public seeking additional information should contact David C. Ward, Designated Federal Officer (DFO), Department of Veterans Affairs, 810 Vermont Avenue NW, Washington, DC, via email at David.Ward@va.gov, or (202) 461-7445.

Dated: April 26, 2021.
Jelessa M. Burney,
Federal Advisory Committee Management Officer.

[FR Doc. 2021-09010 Filed 4-30-21; 8:45 am]

BILLING CODE P